DEPARTMENT OF THE INTERIOR

National Park Service

Notice of Inventory Completion for Native American Human Remains and Associated Funerary Objects in the Possession of the University of Denver Department of Anthropology and Museum of Anthropology, Denver, CO, and in the Control of the U.S. Department of the Interior, Bureau of Indian Affairs, Washington, DC; Correction

AGENCY: National Park Service, Interior.

ACTION: Notice; correction.

Notice is here given in accordance with the Native American Graves Protection and Repatriation Act (NAGPRA), 25 U.S.C. 3003, of the completion of an inventory of human remains and associated funerary objects in the control of the U.S. Department of the Interior, Bureau of Indian Affairs, Washington, DC, and in the possession of the University of Denver Department of Anthropology and Museum of Anthropology, Denver, CO. The human remains were removed from Navajo County, AZ and San Juan County, NM.

This notice is published as part of the National Park Service's administrative responsibilities under NAGPRA, 25 U.S.C. 3003 (d)(3). The determinations in this notice are the sole responsibility of the museum, institution, or Federal agency that has control of the human remains. The National Park Service is not responsible for the determinations in this notice.

This notice corrects the Notice of Inventory Completion published in the Federal Register (67 FR 9002-9003, February 27, 2002) because officials of the University of Denver Department of Anthropology and Museum of Anthropology have determined that the cultural affiliation conclusions for the human remains referenced in the notice are incorrect, as defined at 25 U.S.C. 3001 (2). After further consideration of the evidence, museum officials have determined that the human remains (DU 6014 and DU 6056) removed from Shiprock, San Juan County, NM, are of Native American ancestry, but that, pursuant to 25 U.S.C. 3001 (2), there is not sufficient available evidence that can lead to a reasonable assignment of a shared group relationship with any present-day Indian tribe. Furthermore, the human remains (DU 6000) removed from Marsh Pass, Navajo County, AZ, have a cultural affiliation that can be narrowed specifically to the Navajo Nation, Arizona, New Mexico & Utah.

The February 27, 2002 notice, pursuant to 43 C.F.R. 10.2 (e), identified a relationship of shared group identity that could be reasonably traced between the Native American human remains removed from both sites to the Hopi Tribe of Arizona; Navajo Nation, Arizona, New Mexico & Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico. Since February 27, 2002, museum officials contracted a research archeologist and conducted additional consultations with representatives of the Hopi Tribe of Arizona; Navajo Nation, Arizona, New Mexico & Utah; Okhay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Pojoaque, New Mexico; Pueblo of Sandia, New Mexico; Pueblo of Santa Ana, New Mexico; Pueblo of Santa Clara, New Mexico; Pueblo of Taos, New Mexico; Pueblo of Tesuque, New Mexico; Pueblo of Zia, New Mexico; and Zuni Tribe of the Zuni Reservation, New Mexico. The museum also sent reports and solicited feedback via telephone and correspondence with representatives from the Colorado River Indian Tribes of the Colorado River Indian Reservation, Arizona and California; Pueblo of Picuris, New Mexico; Pueblo of San Felipe, New Mexico; Pueblo of San Ildefonso, New Mexico; Pueblo of Santo Domingo, New Mexico; and Ysleta del Sur Pueblo of Texas.

The human remains (catalog numbers DU 6014 and DU 6056) were removed from Shiprock, San Juan County, NM, possibly by Dr. E.B. Renaud, founder of the University of Denver Department of Anthropology. These two sets of remains have been interpreted by a physical anthropologist as being the remains of one individual, based on the similar coloring and size of the bones as well as their provenience. Renaud noted that the skull is probably male-an adult about 40 years of age-and shows evidence of cradleboarding. While officials at the University of Denver Department of Anthropology and Museum of Anthropology recognize that scholars have historically attributed the activity of cradleboarding to the Pueblo Tribes, Pueblo consultants cited other examples of people who used cradleboards. In addition, Shiprock, NM is an area that was visited and inhabited by a number of tribes over time. In the absence of specific archeological dates or material culture, tribal representatives did not accept the determination that cranial flattening was specifically a Puebloan cultural practice.

Without further information regarding archeological context, dating or material culture, museum officials have determined that the evidence surrounding the human remains (DU 6014 and DU 6056) did not provide enough data to assign cultural affiliation. However, the human remains (DU 6000) removed from Navajo County, AZ, have a cultural affiliation that can be narrowed specifically to the Navajo Nation. This conclusion was supported by tribal information and expert opinion.

Therefore, based on expert opinion, additional research, and tribal information, the changes to cultural affiliation in the Federal Register notice of February 27, 2002, is corrected by deleting paragraphs 6 to 8, and replacing paragraphs 4, 5, 9 and 10 with the following paragraphs:

In 1953, human remains representing a minimum of one individual (catalog number DU 6000) were removed from Marsh Pass, Navajo County, AZ, by Arnold Withers, a University of Denver Department of Anthropology faculty member, who donated the remains to the University of Denver Museum of Anthropology that same year. No field notes exist for these remains. No known individual was identified. No associated funerary objects are present.

Marsh Pass is on the Navajo Reservation. The human remains were found in a deserted hogan. According to the scientific literature, hogans are a Navajo form of habitation, and under certain circumstances are also traditional Navajo burial places. Tribal information also largely supports a Navajo affiliation. The preponderance of the evidence, including archeology, architecture, oral traditions, and expert opinion, indicates that a relationship of shared group identity can be reasonably traced between the human remains and the Navajo Nation, Arizona, New Mexico & Utah.

Officials of the Bureau of Indian Affairs and University of Denver Department of Anthropology and Museum of Anthropology have determined that, pursuant to 25 U.S.C. 3001 (9-10), the human remains described above represent the physical remains of a minimum of one individual of Native American ancestry. Officials of the Bureau of Indian Affairs and University of Denver Department of Anthropology and Museum of Anthropology have also determined that, based on the preponderance of the evidence, pursuant to 25 U.S.C. 3001 (2), a relationship of shared group identity can be reasonably traced between the Native American human remains and the Navajo Nation, Arizona, New Mexico & Utah.

Representatives of any other Indian tribe that believes itself to be culturally affiliated with the human remains should contact Dr. Christina Kreps, University of Denver Museum of Anthropology, Sturm 146, Denver, CO 80208, telephone (303) 871-2688, before March 4, 2009. Repatriation of the human remains to the Navajo Nation, Arizona, New Mexico & Utah may proceed after that date if no additional claimants come forward.

The University of Denver Museum of Anthropology is responsible for notifying the Bureau of Indian Affairs; Colorado River Indian Tribes of the Colorado River Indian Reservation, Arizona and California; Hopi Tribe of Arizona; Navajo Nation, Arizona, New Mexico & Utah; Okhay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico that this notice has been published.

Dated: January 5, 2009
Sherry Hutt,
Manager, National NAGPRA Program.

[FR Doc. E9-2111 Filed 1-30-09; 8:45 am]

BILLING CODE 4312-50-S